DEPARTMENT OF TRANSPORTATION

Federal Aviation Administration

14 CFR Part 71

[Docket No. FAA-2023-1624; Airspace Docket No. 24-ACE-7]

RIN 2120-AA66

Establishment of Class E Airspace; Rose Hill, KS

AGENCY: Federal Aviation Administration (FAA), DOT.

ACTION: Final rule, delay of effective date.

SUMMARY: This action delays the effective date of a final rule published in the Federal Register on November 18, 2024, establishing Class E airspace at Rose Hill, KS to support new public instrument procedures. The FAA is delaying the effective date to allow sufficient time for charting cut-off date compliance.

DATES: The effective date of the final rule published on November 18, 2024 (89 FR 90578) is delayed from December 26, 2024, to February 20, 2025. The Director of the Federal Register approved this incorporation by reference action under 1 CFR part 51, subject to the annual revision of FAA Order JO 7400.11 and publication of conforming amendments.

FOR FURTHER INFORMATION CONTACT: Raul Garza Jr., Federal Aviation Administration, Operations Support Group, Central Service Center, 10101 Hillwood Parkway, Fort Worth, TX 76177; telephone (817) 222-5874.

SUPPLEMENTARY INFORMATION:

Background

The FAA published a final rule in the Federal Register for Docket No. FAA-2023-1624 (89 FR 90578, November 18, 2024) establishing Class E airspace at Rose Hill, KS to support new public instrument procedures. The effective date for that final rule is December 26, 2024. After the final rule was published, the FAA determined that the effective date did not coincide with the FAA's charting cut-off date.

Class E airspace designations are published in paragraph 6005 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available online at www.faa.gov/air_traffic/publications/. You may also contact the Rules and Regulations Group, Office of Policy, Federal Aviation Administration, 600 Independence Avenue SW, Washington, DC 20597; telephone: (202) 267-8783.

FAA Order JO 7400.11J lists Class A, B, C, D, and E airspace areas, air traffic service routes, and reporting points.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.

Delay of Effective Date

Accordingly, pursuant to the authority delegated to me, the effective date of the final rule for Airspace Docket 24-ACE-7, as published in the Federal Register on November 18, 2024 (89 FR 90578), FR Doc. 2024-26734, is hereby delayed until February 20, 2025.

Authority: 49 U.S.C. 106(f), 106(g); 40103, 40113, 40120; E.O. 10854, 24 FR 9565, 3 CFR, 1959-1963 Comp., P. 389.

Issued in Fort Worth, Texas, on November 26, 2024.
Steven Phillips,
Acting Manager, Operations Support Group, ATO Central Service Center.

[FR Doc. 2024-28224 Filed 12-2-24; 8:45 am]

BILLING CODE 4910-13-P